DEPARTMENT OF TRANSPORTATION

Federal Highway Administration

Notice of Final Federal Agency Actions on Proposed Highway in New Hampshire

AGENCY: Federal Highway Administration (FHWA), DOT.

ACTION: Notice of limitation on claims for judicial review of actions by FHWA and other federal agencies.

SUMMARY: This notice announces actions taken by FHWA and other Federal agencies that are final. The actions relate to a proposed interchange on I-93 and a combination of new roadway and existing roadway improvements on a corridor extending 3.2 miles from I-93 in the Town of Londonderry to New Hampshire State Route 102 in the Town of Derry in Rockingham County in the State of New Hampshire. Those actions grant licenses, permits, and approvals for the project.

DATES: By this notice, FHWA is advising the public of final agency actions subject to 23 U.S.C. 139(l)(1). A claim seeking judicial review of the Federal agency actions that are covered by this notice will be barred unless the claim is filed on or before August 6, 2020. If the Federal law that authorizes judicial review of a claim provides a time period of less than 150 days for filing such claim, then that shorter time period still applies.

FOR FURTHER INFORMATION CONTACT: For FHWA: Mr. Jamison S. Sikora, Environmental Program Manager, Federal Highway Administration, 53 Pleasant Street, Suite 2200, Concord, NH 03301, Office Hours: 8:00 a.m. to 4:00 p.m., (603) 410-4870, email: Jamie.Sikora@dot.gov. For NHDOT: Mr. Keith Cota, Project Manager, New Hampshire Department of Transportation, 7 Hazen Drive, Concord, NH 03302, Office Hours: 8:00 a.m. to 4:00 p.m., (603) 271-1615, email: Keith.Cota@dot.nh.gov.

SUPPLEMENTARY INFORMATION: Notice is hereby given that the Federal Highway Administration has taken final agency actions subject to 23 U.S.C. 139(l)(1) by issuing licenses, permits, and approvals for the following highway project in the State of New Hampshire: I-93 Exit 4A in the Towns of Londonderry and Derry (IM-0931(201)). The project includes construction of a new interchange with I-93 (known as Exit 4A) and other transportation improvements to reduce congestion and improve safety along State Route 102 (NH 102), from I-93 easterly through downtown Derry, and to promote economic vitality in the Derry/Londonderry area. A 3.2 mile corridor would be improved between the new interchange and NH 102 in Derry. There would be approximately 1 mile of roadway construction on a new alignment and 2.2 miles of existing roadway reconstruction. The actions by the Federal agencies, and the laws under which such actions were taken, are described in the Combined Final Environmental Impact Statement/Record of Decision for the project, approved on February 3, 2020, and in other documents in the project records. The FEIS/ROD, and other project records are available by contacting FHWA at the address provided above. The FEIS/ROD can be viewed and downloaded from the project website at www.i93exit4a.com, or obtained from the FHWA or NHDOT contacts listed above.

This notice applies to all Federal agency decisions that are final as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671q].

3. Land: Section 4(f) of the Department of Transportation Act of 1966 [49 U.S.C. 303; 23 U.S.C. 138]; Landscaping and Scenic Enhancement (Wildflowers) [23 U.S.C. 319].

4. Wildlife: Endangered Species Act [16 U.S.C. 1531-1544 and Section 1536]; Marine Mammal Protection Act [16 U.S.C. 1361-1423h]; Fish and Wildlife Coordination Act [16 U.S.C. 661-667d]; Migratory Bird Treaty Act [16 U.S.C. 703-712].

5. Historic and Cultural Resources: Section 106 of the National Historic Preservation Act of 1966, as amended [16 U.S.C. 470f]; Archeological Resources Protection Act of 1977 [16 U.S.C. 470aa-470mm]; Archeological and Historic Preservation Act [16 U.S.C. 469-469c]; Native American Grave Protection and Repatriation Act (NAGPRA) [25 U.S.C. 3001-3013].

6. Social and Economic: American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300f-300j-26)]; Rivers and Harbors Act of 1899 [33 U.S.C. 401-406]; Wild and Scenic Rivers Act [16 U.S.C. 1271-1287]; Emergency Wetlands Resources Act, [16 U.S.C. 3901, 3921]; Wetlands Mitigation [23 U.S.C. 119(g) and 133(b)(14)]; Flood Disaster Protection Act, 42 U.S.C. 4012a, 4106].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: February 20, 2020.
Patrick A. Bauer,
Division Administrator, Federal Highway Administration, New Hampshire Division, Concord, New Hampshire.

[FR Doc. 2020-04315 Filed 3-6-20; 8:45 am]

BILLING CODE 4910-RY-P